DEPARTMENT OF HOMELAND SECURITY

Office of the Secretary

[Docket No. DHS-2014-0031]

Privacy Act of 1974; Department of Homeland Security Federal Emergency Management Agency—002 Quality Assurance Recording System of Records

AGENCY: Privacy Office, Department of Homeland Security.

ACTION: Notice of Privacy Act System of Records.

SUMMARY: In accordance with the Privacy Act of 1974, the Department of Homeland Security proposes to update and reissue a current Department of Homeland Security system of records titled, “Department of Homeland Security/Federal Emergency Management Agency—002 Quality Assurance Recording System of Records.” This system of records allows the Department of Homeland Security/Federal Emergency Management Agency to collect and maintain records on the customer service performance of its employees, contractors, and vendors who interact with individuals who apply for the Agency's individual assistance and public assistance programs.

As a result of a biennial review of this system, the Department of Homeland Security/Federal Emergency Management Agency is updating this system of records notice to include updates to the (1) system location, (2) category of individuals, (3) category of records, (4) routine uses, (5) legal authorities, (6) purpose, (7) retrievability, (8) retention and disposal, and (9) record source categories. Additionally, this notice includes non-substantive changes to simplify the formatting and text of the previously published notice. This updated system will be included in the Department of Homeland Security's inventory of record systems.

DATES: Submit comments on or before July 21, 2014. This updated system will be effective July 21, 2014.

ADDRESSES: You may submit comments, identified by docket number DHS-2014-0031 by one of the following methods:

• Federal e-Rulemaking Portal: http://www.regulations.gov. Follow the instructions for submitting comments.

• Fax: 202-343-4010.

• Mail: Karen L. Neuman, Chief Privacy Officer, Privacy Office, Department of Homeland Security, 245 Murray Drive SW., Building 410, STOP-0655, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Eric M. Leckey, (202) 212-5100, Privacy Officer, Federal Emergency Management Agency, Department of Homeland Security, Washington, DC 20478. For privacy questions, please contact: Karen L. Neuman, (202) 343-1717, Chief Privacy Officer, Privacy Office, Department of Homeland Security, 245 Murray Drive SW., Building 410, STOP-0655, Washington, DC 20528.

SUPPLEMENTARY INFORMATION:

I. Background

In accordance with the Privacy Act of 1974, 5 U.S.C. 552a, the Department of Homeland Security (DHS)/Federal Emergency Management Agency (FEMA) proposes to update and reissue a current DHS system of records titled, “DHS/FEMA-002 Quality Assurance Recording System of Records.”

DHS/FEMA published this system of records notice because FEMA collects, uses, maintains, and retrieves personally identifiable information (PII) from its employees and contractors for internal employee performance evaluations, training, process improvement, and quality assurance purposes to improve customer service to individual assistance and public assistance applicants. FEMA collects information from individuals (including PII) as necessary, or uses information previously collected from them to provide customer service to these applicants.

FEMA collects, uses, and maintains the records within this system under the authority of 5 U.S.C. 301; 5 CFR 430.102; the Federal Sector Labor Management Relations Act, 5 U.S.C. 4302, and 5 U.S.C. 7106(a); Fraud, Abuse, and Waste Controls, 6 U.S.C. 795; 29 U.S.C. 204(b); Exec. Order No. 1357; FEMA Directive 3100.1; and FEMA Directive 3700.

FEMA is updating this system of records notice because it provides greater transparency by encompassing the additional FEMA National Processing Service Center (NPSC) customer service performance records, including those employees/contractors who assess the customer service satisfaction of public assistance applicants.

(1) FEMA is updating the system location to include the Virginia NPSC in Winchester, Virginia, and the Maryland NPSC in Hyattsville, Maryland as possible locations for records within this system of records. FEMA is also updating the system location to include the Quality Assurance Recording System (QARS) IT system, which maintains these records; (2) FEMA is updating category of individuals to include FEMA employees and contractors that perform customer satisfaction assessments involving applicants of FEMA's individual assistance and public assistance programs; (3) FEMA is revising the category of records to include voice recordings within this system of records. Those records may also include a third-party vendor that is providing language translation services between the individual assistance applicant and FEMA. The revisions may also expand the “quality result” to include FEMA employees/contractors providing customer service to public assistance applicants; to include email addresses for both Individual Assistance and Public Assistance; to include the system-generated Contact ID and Survey ID unique to applicants; and to include specific public assistance applicant information; (4) FEMA is adding one routine use to allow information to be shared with the news media and public with approval of the Chief Privacy Officer in consultation with counsel; (5) FEMA is updating legal authority to include Executive Order No. 13571, “Streamlining Service Delivery and Improving Customer Service,” which builds upon the requirements of Executive Order No. 12862 “Setting Customer Service Standards”; (6) FEMA is updating the purpose to include a reference to public assistance programs; (7) FEMA is amending retrievability to remove the reference to the DHS/FEMA-008 Disaster Recovery Assistance Files System of Records (April 30, 2013, 78 FR 25282), and to add the notation that information in this system of records cannot be retrieved by the PII of individual assistance applicants or public assistance applicants; (8) FEMA is updating retention and disposal to include the FEMA Records Schedule title and NARA authority for the maintenance of these records; (9) FEMA is updating record source categories to explicitly state that the DHS/FEMA-008 Disaster Recovery Assistance Files System of Records (April 30, 2013, 78 FR 25282) and DHS/FEMA-009 Hazard Mitigation, Disaster Public Assistance, and Disaster Loan Programs system of records are “sources” for information captured within the QARS system of records. Additionally, FEMA is making non-substantive grammatical changes throughout this notice for the purpose of clarification.

The purpose of this system of records is to enable FEMA's Quality Control Department, Customer Satisfaction Analysis Section, Contract Oversight Management Section, and NPSC Supervisory staff to better monitor, evaluate, and assess its employees and/or contractors so that FEMA can improve customer service to those seeking disaster assistance. The purpose is consistent with FEMA's mission to improve its capability to respond to all hazards and support the citizens of our Nation.

This updated system will be included in the Department of Homeland Security's inventory of record systems.

Consistent with DHS's information-sharing mission, information stored in the DHS/FEMA-002 Quality Assurance Recording System of Records may be shared with other DHS components that have a need to know the information to carry out their national security, law enforcement, immigration, intelligence, or other homeland security functions. In addition, DHS/FEMA may share information with appropriate federal, state, local, tribal, territorial, foreign, or international government agencies consistent with the routine uses set forth in this system of records notice.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/FEMA-002 Quality Assurance Recording System of Records.

In accordance with 5 U.S.C. 552a(r), DHS has provided a report of this system of records to the Office of Management and Budget and to Congress.

SYSTEM OF RECORDS

Department of Homeland Security (DHS)/Federal Emergency Management Agency (FEMA)-002.

System name:

DHS/FEMA-002 Quality Assurance Recording System (QARS).

Security classification:

Unclassified.

System location:

Records are maintained primarily at the FEMA Texas National Processing Service Center (NPSC), Denton, TX 76208; however, records may also be maintained at the Virginia NPSC, Winchester, VA, and the Maryland NPSC, Hyattsville, MD, within the QARS IT system.

Categories of individuals covered by the system:

This system collects information from FEMA employees and contractors at FEMA's National Processing Service Centers (NPSCs) who are making or receiving telephone calls to or from disaster assistance applicants; FEMA employees and contractors engaged in the case review of disaster assistance applications not related to a telephone call to or from a disaster assistance applicant; and FEMA employees and contractors performing customer service satisfaction assessments involving applicants of FEMA individual assistance or public assistance programs.

Categories of records in the system:

• Voice recordings of telephone calls between FEMA employees and/or contractors and applicants for FEMA's individual assistance and public assistance programs. Telephone calls may include a third-party vendor that is providing language translation services on behalf of FEMA;

• A “quality result” generated in QARS for each call or case processing activity that is evaluated by a FEMA supervisor or quality control specialist assessing the level of customer service provided by the FEMA employee/contractor to the FEMA individual assistance or public assistance applicant;

• System-generated Contact ID;

• Name of FEMA employee who conducted the assessment;

• Identification number of FEMA employee who conducted the assessment;

• FEMA employee/contractor name; and

• FEMA employee/contractor user identification number.

Tracking of FEMA employee/contractor activity in the National Emergency Management Information System—Individual Assistance (formerly National Emergency Management Information System (NEMIS)-IA) and Customer Satisfaction Analysis System (CSAS) related to call recordings, case review processing not related to a phone call, and/or customer satisfaction assessments may include the following individual assistance applicant information:

• Survey ID;

• Applicant's name;

• Applicant email address;

• Home address;

• Social Security number;

• Applicant phone number(s);

• Current mailing address; and

• Personal financial information including applicant's bank name, bank account information, insurance information, and individual or household income.

Tracking of FEMA employee/contractor activity in CSAS related to call recordings for customer satisfaction assessments may include the following public assistance applicant information:

• Survey ID;

• Applicant/Point of Contact name and title;

• Applicant email address;

• Organization Name;

• Applicant's organization phone number(s); and

• Organization's business and/or mailing address.

Authority for maintenance of the system:

5 U.S.C. 301; 5 CFR 430.102; 5 U.S.C. 4302 and 5 U.S.C. 7106(a); 6 U.S.C. 795; 29 U.S.C. 204(b); Executive Order No. 13571; FEMA Directive 3100.1; FEMA Directive 3700.1; and FEMA Directive 3700.2.

Purpose(s):

The purpose of this system is to collect, maintain, use, and retrieve performance records of the FEMA employees, contractors, and vendors who interact with applicants of the Agency's individual assistance and public assistance programs for internal employee and/or contractor performance evaluations, training, and quality assurance purposes to improve FEMA's customer service to and satisfaction of those individuals applying for FEMA's individual and public assistance programs.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the U.S. Attorneys, or other federal agency conducting litigation or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The U.S. or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS' efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute an unwarranted invasion of personal privacy.

Disclosure to consumer reporting agencies:

None.

Policies and practices for storing, retrieving, accessing, retaining, and disposing of records in the system:

Storage:

DHS/FEMA stores records in this system electronically or on paper in secure facilities in a locked drawer behind a locked door. The records may be stored on magnetic disc, tape, and digital media.

Retrievability:

FEMA retrieves records in QARS by the FEMA employee and/or contractor's name and user identification number, or system-generated Contact ID number. This system does not retrieve information by individual or public assistance applicant information.

Safeguards:

DHS/FEMA safeguards records in this system according to applicable rules and policies, including all applicable DHS automated systems security and access policies. FEMA has imposed strict controls to minimize the risk of compromising the information that is being stored. Access to the computer system containing the records in this system is limited to those individuals who have a need to know the information for the performance of their official duties and who have appropriate clearances or permissions.

Retention and disposal:

The retention period for information maintained in QARS depends on the use of the data. Records within QARS that are used in an evaluation of a FEMA employee or contractor are retained for six years, pursuant to FEMA Records Schedule, Series 15-1 “National Processing Service Centers Evaluated Call Recordings,” NARA Authority N1-311-08-1. Records that are not used in an evaluation of a FEMA employee or contractor are purged from the secured servers within 45 days, per FEMA Records Schedule, Series 15-2 “National Processing Service Centers Unevaluated Call Recordings,” also under NARA Authority N1-311-08-1.

System Manager and address:

Manager (940) 891-8500, Enterprise Performance Information Management Section, Federal Emergency Management Agency, Texas National Processing Service Center, Denton, TX 76208.

Notification procedure:

Individuals seeking notification of and access to any record contained in this system of records, or seeking to contest its content, may submit a request in writing to the Chief Privacy Officer and Headquarters or FEMA Freedom of Information Act (FOIA) Officer, whose contact information can be found at http://www.dhs.gov/foia under “Contacts.” If an individual believes more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records, your request must conform with the Privacy Act regulations set forth in 6 CFR Part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records; and

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

FEMA obtains records from FEMA employees and contractors who assist disaster survivors in the disaster assistance application and casework process, FEMA employees, and/or contractors initiating customer satisfaction assessments of FEMA disaster assistance applicants, and from supervisors or quality control specialists. This system of records contains PII of individual assistance applicants, which is part of the DHS/FEMA-008 Disaster Recovery Assistance Files System of Records, April 30, 2013, 78 FR 25282, as well as PII of public assistance applicants, which is part of the DHS/FEMA-009 Hazard Mitigation, Disaster Public Assistance, and Disaster Loan Programs System of Records.

Exemptions claimed for the system:

None.

Dated: June 3, 2014.
Karen L. Neuman,
Chief Privacy Officer, Department of Homeland Security.

[FR Doc. 2014-14079 Filed 6-19-14; 8:45 am]

BILLING CODE 9110-17-P